DEPARTMENT OF DEFENSE

Office of the Secretary

Defense Advisory Board for Employer Support of the Guard and Reserve (DAB-ESGR)

AGENCY: Department of Defense.

ACTION: Notice of open meeting; cancellation.

SUMMARY: The Department of Defense published an announcement of a open meeting of the Defense Advisory Board for Employer Support of the Guard and Reserve on April 17, 2009 (74 FR 17829). The meeting was scheduled for May 7, 2009. This meeting has been canceled. The meeting will be rescheduled and announced at a later date.

FOR FURTHER INFORMATION CONTACT: MAJ Elaine M. Gullotta at 703-696-1385, ext 540, or e-mail at elaine.gullotta@osd.mil.

Dated: May 1, 2009.
Patricia L. Toppings,
OSD Federal Register, Liaison Officer, Department of Defense.

[FR Doc. E9-10487 Filed 5-6-09; 8:45 am]

BILLING CODE 5001-06-P